Title 3—

The President

Notice of November 9, 2012

Continuation of the National Emergency With Respect to Iran

On November 14, 1979, by Executive Order 12170, the President declared a national emergency with respect to Iran and, pursuant to the International Emergency Economic Powers Act (50 U.S.C. 1701-1706), took related steps to deal with the unusual and extraordinary threat to the national security, foreign policy, and economy of the United States constituted by the situation in Iran. Because our relations with Iran have not yet returned to normal, and the process of implementing the agreements with Iran, dated January 19, 1981, is still under way, the national emergency declared on November 14, 1979, must continue in effect beyond November 14, 2012. Therefore, consistent with section 202(d) of the National Emergencies Act (50 U.S.C. 1622(d)), I am continuing for 1 year this national emergency with respect to Iran.

This notice shall be published in the Federal Register and transmitted to the Congress.

THE WHITE HOUSE,

Washington, November 9, 2012.

[FR Doc. 2012-27742

Filed 11-9-12; 2:15 pm]

Billing code 3295-F3